DEPARTMENT OF ENERGY

Federal Energy Regulatory Commission

Combined Notice of Filings #1

Take notice that the Commission received the following electric corporate filings:

Docket Numbers: EC17-191-000.

Applicants: Brady Wind, LLC, Brady Wind II, LLC, Brady Interconnection, LLC, Desert Sunlight 250, LLC, Desert Sunlight 300, LLC, NEP US SellCo, LLC, NextEra Energy Partners Acquisitions, LLC.

Description: Application for Authorization Under Section 204 of the Federal Power Act and Request for Expedited Action of Brady Wind, LLC, et al.

Filed Date: 9/25/17.

Accession Number: 20170925-5146.

Comments Due: 5 p.m. ET 10/16/17.

Take notice that the Commission received the following electric rate filings:

Docket Numbers: ER17-2534-001.

Applicants: Arizona Public Service Company.

Description: Tariff Amendment: Amendment to Service Agreement No. 300 to be effective 1/1/2017.

Filed Date: 9/26/17.

Accession Number: 20170926-5052.

Comments Due: 5 p.m. ET 10/17/17.

Docket Numbers: ER17-2547-000.

Applicants: Great Bay Hydro Corporation.

Description: Tariff Cancellation: Notice of Cancellation to be effective 10/1/2017.

Filed Date: 9/25/17.

Accession Number: 20170925-5102.

Comments Due: 5 p.m. ET 10/16/17.

Docket Numbers: ER17-2548-000.

Applicants: EGP Stillwater Solar PV II, LLC.

Description: Baseline eTariff Filing: EGP Stillwater Solar PV II, LLC MBR Tariff to be effective 10/1/2017.

Filed Date: 9/26/17.

Accession Number: 20170926-5050.

Comments Due: 5 p.m. ET 10/17/17.

Take notice that the Commission received the following electric securities filings:

Docket Numbers: ES17-58-000.

Applicants: PPL Electric Utilities Corporation.

Description: Application under Section 204 of the Federal Power Act of PPL Electric Utilities Corporation.

Filed Date: 9/26/17.

Accession Number: 20170926-5039.

Comments Due: 5 p.m. ET 10/17/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 26, 2017.
Nathaniel J. Davis, Sr.,
Deputy Secretary.

[FR Doc. 2017-21021 Filed 9-29-17; 8:45 am]

BILLING CODE 6717-01-P